DEPARTMENT OF COMMERCE

National Oceanic and Atmospheric Administration

50 CFR Part 648

[Docket No. 051209329-5329-01; I.D. 020306B]

Fisheries of the Northeastern United States; Atlantic Mackerel, Squid, and Butterfish Fisheries; Closure of the Quarter I Fishery for Loligo Squid

AGENCY: National Marine Fisheries Service (NMFS), National Oceanic and Atmospheric Administration (NOAA), Commerce.

ACTION: Closure.

SUMMARY: NMFS announces that the directed fishery for Loligo squid in the Exclusive Economic Zone (EEZ) will be closed effective 0001 hours, February 13, 2006. Vessels issued a Federal permit to harvest Loligo squid may not retain or land more than 2,500 lb (1,134 kg) of Loligo squid per trip for the remainder of the quarter (through March 31, 2006). This action is necessary to prevent the fishery from exceeding its Quarter I quota and to allow for effective management of this stock.

DATES: Effective 0001 hours, February 13, 2006, through 2400 hours, March 31, 2006.

FOR FURTHER INFORMATION CONTACT: Don Frei, Fishery Management Specialist, 978-281-9221, Fax 978-281-9135.

SUPPLEMENTARY INFORMATION: Regulations governing the Loligo squid fishery are found at 50 CFR part 648. The regulations require specifications for maximum sustainable yield, initial optimum yield, allowable biological catch, domestic annual harvest (DAH), domestic annual processing, joint venture processing, and total allowable levels of foreign fishing for the species managed under the Atlantic Mackerel, Squid, and Butterfish Fishery Management Plan. The procedures for setting the annual initial specifications are described in § 648.21.

The regulations at § 648.21(d)(1) allow for the previous year's annual specifications to remain in effect if the annual specifications for the new fishing year are not published in the Federal Register prior to the start of the fishing year. The 2005 annual quota for Loligo squid was 16,744.9 mt, with 5,564.3 mt allocated to Quarter I (70 FR 13406, March 21,2005).

The allowable biological catch in 2006 is not proposed to change from the 2005 value, but because the proposed 2006 Research Set-Aside (RSA) is greater than the 2005 RSA allocation, the initial optimum yield and the individual quarterly quotas are minimally different. The proposed rule for the 2006 annual specifications published on December 27, 2005 (70 FR 76436), with a comment period that ended January 11, 2006. The proposed 2006 annual quota for Loligo squid is 16,872.50 mt. This amount is proposed to be allocated by quarter, as shown below.

Table. 1 Loligo Squid Quarterly Allocations.
Quarter | Percent | Metric Tons¹ | Research Set-aside
I (Jan-Mar) | 33.23 | 5,606.70 | N/A
II (Apr-Jun) | 17.61 | 2,971.30 | N/A
III (Jul-Sep) | 17.3 | 2,918.90 | N/A
IV (Oct-Dec) | 31.86 | 5,375.60 | N/A
Total | 100 | 16,872.50 | 127.5
¹Quarterly allocations after 127.5 mt research set-aside deduction.

Section 648.22 requires NMFS to close the directed Loligo squid fishery in the EEZ when 80 percent of the quarterly allocation is harvested in Quarters I, II, and III, and when 95 percent of the total annual DAH has been harvested. NMFS is further required to notify, in advance of the closure, the Executive Directors of the Mid-Atlantic, New England, and South Atlantic Fishery Management Councils; mail notification of the closure to all holders of Loligo squid permits at least 72 hours before the effective date of the closure; provide adequate notice of the closure to recreational participants in the fishery; and publish notification of the closure in the Federal Register. The Administrator, Northeast Region, NMFS, based on dealer reports and other available information, has determined that 80 percent of the DAH for Loligo squid in Quarter I will be harvested. Therefore, effective 0001 hours, February 13, 2006, the directed fishery for Loligo squid is closed and vessels issued Federal permits for Loligo squid may not retain or land more than 2,500 lb (1,134 kg) of Loligo during a calendar day. The directed fishery will reopen effective 0001 hours, April 1, 2006, when the Quarter II quota becomes available.

Classification

This action is required by 50 CFR part 648 and is exempt from review under Executive Order 12866.

Authority: 16 U.S.C. 1801 et seq.

Dated: February 7, 2006.
Alan D. Risenhoover,
Acting Director, Office of Sustainable Fisheries, National Marine Fisheries Service.

[FR Doc. 06-1305 Filed 2-8-06; 2:02 pm]

BILLING CODE 3510-22-S